LEGAL SERVICES CORPORATION

Notice and Request for Comments—LSC Elimination of Hawai'i Migrant Service Area

AGENCY: Legal Services Corporation.

ACTION: Notice and Request for Comments—LSC Elimination of Hawai'i Migrant Service Area.

SUMMARY: The Legal Services Corporation will eliminate the Hawai'i migrant service area, MHI, effective April 1, 2008, because any eligible migrant population in Hawai'i can be more effectively and efficiently served through the Hawai'i basic field grant.

DATES: Written comments must be received on or before March 3, 2008.

ADDRESSES: Written comments may be submitted by mail, fax or e-mail to Karen J. Sarjeant, Vice President for Programs and Compliance, Legal Services Corporation, 3333 K St., NW., Washington, DC 20007; 202-295-1645 (phone); 202-337-6386 (fax); ksarjeant@lsc.gov.

FOR FURTHER INFORMATION CONTACT: Karen J. Sarjeant, Vice President for Programs and Compliance, Legal Services Corporation, 3333 K St., NW., Washington, DC 20007; 202-295-1645 (phone); 202-337-6386 (fax); ksarjeant@lsc.gov.

SUPPLEMENTARY INFORMATION: The Legal Services Corporation's (LSC) mission is to promote equal access to justice in our Nation and to provide for high-quality civil legal assistance to low-income persons. Pursuant to its statutory authority, LSC designates service areas in U.S. States, territories, possessions and the District of Columbia for which it provides grants to legal aid programs to provide free civil legal services, primarily through “basic field” grants based on poverty populations. In some regions, LSC designates migrant service areas for grants that are designed to specifically serve the legal needs of eligible migrant populations. The funding for migrant service areas is taken out of the funding for the basic field service areas also covering those populations based on the estimated number of eligible migrants as a portion of the total poverty population.

For many years LSC has designated a migrant service area in Hawai'i. LSC has been told that the eligible migrant population in Hawai'i is not sufficient in numbers to maintain a separate migrant service area. LSC has researched this matter and determined that, based on the available information, it would be more effective and efficient to serve the legal needs of the eligible migrant population in Hawai'i through the basic field grant rather than providing a separate migrant grant.

LSC provides grants through a competitive bidding process, which is regulated by 45 CFR part 1634. In 2007, LSC implemented a competitive grants process for 2008 calendar year funding that included, inter alia, the Hawai'i migrant service area. LSC determines the term of grants after applications have been received. For 2008, LSC awarded a three-month grant for the Hawai'i migrant service area to the Legal Aid Society of Hawai'i (“LASH”), effective January 1, 2008, through March 31, 2008. Through an earlier competitive grants process, LASH is also the recipient of the Hawai'i basic field grant, awarded for calendar years 2007 through 2009.

LSC intends to eliminate the Hawai'i migrant service area beginning April 1, 2008. Funding for the eligible migrant population of Hawai'i, which had been deducted from the Hawai'i basic field grant, will be restored to that grant. LSC expects that the recipient of that grant, the Legal Aid Society of Hawai'i, will continue to provide services addressing the special needs of the eligible migrant population as part of its basic field grant, which will be subject to competition again for funding in calendar year 2010.

LSC invites public comment on this decision. Interested parties may submit comments to LSC by March 3, 2008. More information about LSC can be found at LSC's Web site: http://www.lsc.gov.

Victor M. Fortuno,
Vice President and General Counsel.

[FR Doc. E8-1434 Filed 1-25-08; 8:45 am]

BILLING CODE 7050-01-P